DEPARTMENT OF AGRICULTURE

Tribal Advisory Committee; Notice of Solicitation for Nominations; Correction

AGENCY: United States Department of Agriculture (USDA).

ACTION: Notice of Amendment to Solicit Nominations for Memberships; Correction.

SUMMARY: The U.S. Department of Agriculture (USDA) published a note of solicitation of nominations for four (4) vacancies on the USDA Tribal Advisory Committee (“the Committee”) on August 8, 2025. The Summary in that notice mentioned an incorrect end date for a vacancy term. This notice makes a correction to the previous Summary regarding the Committee's vacancy to be appointed by the Ranking Member of the House Committee on Agriculture. The appointed member would serve the remainder of this vacancy term ending December 19, 2026.

DATES: Nominations must be submitted via email September 22, 2025.

ADDRESSES: Please submit nominations and resumes for recognition and appointment by the Secretary of Agriculture and the Ranking members of the House Committee on Agriculture through Josiah Griffin, Designated Federal Officer, at Tribal.Relations@usda.gov.

FOR FURTHER INFORMATION CONTACT: Inquiries may be sent to, Josiah Griffin, Designated Federal Officer, USDA, Office of Tribal Relations, at Tribal.Relations@usda.gov.

SUPPLEMENTARY INFORMATION:

Correction

On August 8, 2025, (90 FR 38431), USDA provided the wrong calendar year in the Summary for the end of term vacancy appointed by the Ranking Member of the House Committee on Agriculture to serve the remainder of the vacancy term. The December 19, 2025, end date is being removed and corrected to December 19, 2026.

Dated: August 12, 2025.
Cikena Reid,
USDA Committee Management Officer.

[FR Doc. 2025-15447 Filed 8-13-25; 8:45 am]

BILLING CODE 3420-AG-P